DEPARTMENT OF COMMERCE

International Trade Administration

University of Utah, Consortium for Astro-Particle Research, Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 09-007. Applicant: University of Utah, Consortium for Astro-Particle Research, Salt Lake City, UT 84111. Instrument: Electron Light Source (ELS) accelerator. Manufacturer: University of Tokyo, Japan. Reasons: The instrument will be used as a component of a large ground Telescope Array, which will allow the scientists to calibrate the telescopes by generating a particle beam that accurately simulates a cosmic ray shower. Specifically, this instrument generates a precise amount of air fluorescence for the calibration of the Telescope Array's fluorescence telescopes. A unique feature of this instrument is that it must be able to calibrate the telescope with well time and energy characteristics of a cosmic ray generated extensive air shower and must be measured and stable at the 2-3% level.

Dated: May 13, 2009.
Christopher Cassel,
Acting Director, Subsidies Enforcement Office, Import Administration.

[FR Doc. E9-11646 Filed 5-18-09; 8:45 am]

BILLING CODE 3510-DS-S